DEPARTMENT OF HOMELAND SECURITY

Coast Guard

33 CFR Part 165

[Docket No. USCG 2008-0275]

Safety Zone; Fourth of July Fireworks, City of Monterey, Monterey, CA

AGENCY: Coast Guard, DHS.

ACTION: Notice of enforcement of regulation.

SUMMARY: The Coast Guard will enforce the Fourth of July Fireworks Display safety zone for the city of Monterey from 8 a.m. to 9:45 p.m. on July 4, 2008. This action is necessary to control vessel traffic and to ensure the safety of event participants and spectators. During the enforcement period, unauthorized persons or vessels are prohibited from entering into, transiting through, or anchoring in the safety zone, unless authorized by the Patrol Commander (PATCOM).

DATES: The regulations in 33 CFR 165.1191 will be enforced from 8 a.m. to 9:45 p.m. on July 4, 2008.

FOR FURTHER INFORMATION CONTACT: Lieutenant Junior Grade Sheral Richardson, Waterways Management Branch, U.S. Coast Guard Sector San Francisco, at (415) 399-7436.

SUPPLEMENTARY INFORMATION: The Coast Guard will enforce the safety zone for the annual Fourth of July Fireworks Display for the city of Monterey in 33 CFR 165.1191 on July 4, 2008, from 8 a.m. to 9:45 p.m.

Under the provisions of 33 CFR 165.1191, unauthorized persons or vessels are prohibited from entering into, transiting through, or anchoring in the safety zone during all applicable effective dates and times, unless authorized to do so by the PATCOM. Additionally, each person who receives notice of a lawful order or direction issued by an official patrol vessel shall obey the order of direction. The PATCOM is empowered to forbid and control the regulated area. The PATCOM shall be designated by the Commander, Coast Guard Sector San Francisco. The PATCOM may, upon request, allow the transit of commercial vessels through regulated areas when it is safe to do so.

This notice is issued under authority of 33 CFR 165.1191 and 5 U.S.C. 552(a). In addition to this notice in the Federal Register, the Coast Guard will provide the maritime community with extensive advance notification of this enforcement period via the Local Notice to Mariners.

If the Captain of the Port determines that the regulated area need not be enforced for the full duration stated in this notice, he or she may use a Broadcast Notice to Mariners to grant general permission to enter the regulated area.

Dated: April 15, 2008.
D.J. Swatland,
Captain, U.S. Coast Guard, Acting Captain of the Port, Sector San Francisco.

[FR Doc. E8-10276 Filed 5-7-08; 8:45 am]

BILLING CODE 4910-15-P